DEPARTMENT OF THE INTERIOR

Fish and Wildlife Service

Elizabeth Hartwell Mason Neck National Wildlife Refuge in Fairfax County, VA, and Featherstone National Wildlife Refuge in Prince William County, VA

AGENCY: Fish and Wildlife Service, Interior.

ACTION: Notice of intent to prepare a comprehensive conservation plan and environmental assessment; announcement of public scoping and request for comments.

SUMMARY: The U.S. Fish and Wildlife Service (Service, we, our) is gathering the information needed to prepare a comprehensive conservation plan (CCP) and associated environmental assessment (EA) for Elizabeth Hartwell Mason Neck and Featherstone National Wildlife Refuges (NWR), two of the three refuges in the Potomac River NWR Complex. We publish this notice in compliance with our policy of advising other agencies and the public of our intentions to conduct detailed planning on refuges and obtain suggestions and information about the scope of issues to consider in the planning process.

DATES: To ensure our consideration of your written comments, you must submit them by June 18, 2007. We held public scoping meetings in March 2007 after announcing their locations, dates, and times at least 2 weeks in advance, in special mailings, notices in local newspaper, on our Web site, and through personal contacts.

ADDRESSES: Send your comments or requests for more information on the planning process to Nancy McGarigal, Refuge Planner, U.S. Fish and Wildlife Service, 300 Westgate Center Drive, Hadley, MA, 01035; 413-253-8562 (telephone); 413-253-8468 (fax); northeastplanning@fws.gov (electronic mail). If submitting an electronic mail, please put “Mason Neck NWR” or “Featherstone NWR” in the subject line.

FOR FURTHER INFORMATION: To obtain more information on the refuges, contact the Potomac River NWR Complex, 14344 Jefferson Davis Highway Woodbridge, VA, 22191, at 703-490-4979 (telephone); fw5rw_msnnwr@fws.gov (electronic mail); http://www.fws.gov/refuges/profiles/index.cfm?id=51610 (Elizabeth Hartwell Mason Neck NWR Web site); http://www.fws.gov/Refuges/profiles/index.cfm?id=51612 (Featherstone NWR Web site)

SUPPLEMENTARY INFORMATION: This notice initiates the comprehensive conservation planning process for Elizabeth Hartwell Mason Neck (Mason Neck) and Featherstone NWRs, headquartered in Woodbridge, Virginia.

Background

The CCP Process

The National Wildlife Refuge System Administration Act of 1966, as amended by the National Wildlife Refuge System Improvement Act of 1997 (16 U.S.C. 668dd-668ee), requires us to develop a comprehensive conservation plan for each national wildlife refuge. The purpose of a CCP is to provide refuge managers with 15-year strategies for achieving refuge purposes and contributing to the mission of the National Wildlife Refuge System (NWRS), in conformance with the sound principles of fish and wildlife management and conservation, legal mandates, and Service policies. In addition to providing broad management direction on conserving wildlife and habitat, the plans identify wildlife-dependent recreational opportunities available to the public, including opportunities for hunting, fishing, wildlife observation and photography, and environmental education and interpretation.

We establish each refuge for specific purposes, and use those purposes to develop and prioritize its management goals, objectives, and public uses. The planning process is one way for us and for the public to evaluate those goals and objectives for the best possible conservation of important wildlife habitat, while providing opportunities for wildlife-dependent recreation compatible with those purposes and the mission of the NWRS.

We request your input on all issues, concerns, ideas, improvements and suggestions for the future management of Mason Neck and Featherstone NWRs in Fairfax and Prince William Counties, Virginia, respectively.

You may submit comments at any time during the planning process by writing to the refuge planner (see ADDRESSES, above).

We will conduct the environmental review of this project in accordance with the requirements of the National Environmental Policy Act of 1969 (NEPA), as amended (42 U.S.C. 4321, et seq.), the Council on Environmental Quality Regulations on NEPA (40 CFR parts 1500-1508), other appropriate Federal laws and regulations, and our policies and procedures for complying with them. All of the comments we receive on either our environmental assessments or our environmental impact statements become part of their official public record. We will handle requests for those comments in accordance with the Freedom of Information Act, NEPA (40 CFR 1506.6(f)), and other policies and procedures of the Department or the Service. When we receive such a request, we will provide comment letters with the names and addresses of the individuals who wrote them. However, to the extent permissible by law, we will not provide the telephone numbers of those individuals.

Mason Neck and Featherstone NWRs

Mason Neck and Featherstone NWRs are two of the three refuges in the Potomac River NWR Complex. The Occoquan Bay NWR is the third. We established that refuge in 1972, and completed its CCP in 1997. The refuge complex headquarters is located in Woodbridge, Prince William County, Virginia. The refuges provide natural habitat important for wildlife in a landscape otherwise dominated by urban development, 18 miles south of Washington, DC.

The 2,277-acre Mason Neck NWR lies in Fairfax County, Virginia. Established in 1969, it was the first national wildlife refuge set aside specifically to protect the federally-listed bald eagle. Its other purposes are to protect natural resources, conserve fish and wildlife, and develop compatible fish- and wildlife-oriented recreation. The refuge habitats include oak-hickory forest, freshwater marsh, and 4.4 miles of shoreline along the Potomac River. Bald eagles shelter and nest in its mature forests and forage and hunt along its marshes, bays, and river. Seven bald eagle nests are located on or near the refuge, as well as an eagle roost and a wintering population of 50-60 birds.

Other significant resources on the refuge include the largest freshwater marsh in northern Virginia and one of the State's largest great blue heron rookeries, with more than 1,400 nests. More than 200 species of birds, 31 species of mammals, and 44 species of reptiles and amphibians use the refuge. It is also part of the Chesapeake Bay Estuary Complex, designated by the RAMSAR Convention as a “Wetland of International Importance.”

Each year, about 16,000 visitors hunt, observe or photograph wildlife, or enjoy wildlife interpretation at Mason Neck NWR. Its special events, refuge interpretive programs, three hiking trails, two of which are accessible to persons with disabilities, provide outstanding opportunities for visitors to experience nature.

The 325-acre Featherstone NWR lies in Prince William County, Virginia, near the Town of Woodbridge. Established pursuant to 84 Stat. 1095 in 1970, the refuge protects the natural features of a contiguous wetland area. Its narrow strip of land, bordered on the east by the shore of the Potomac River and the mouth of Neabsco Creek and on the west by an active railroad right-of-way, provides habitat for migratory land birds, shorebirds, waterfowl, ospreys, and a bald eagle nest (historical).

Featherstone NWR lacks legal public access; consequently, we close it to public use except under special use permit. It also lacks facilities or management activities that support public use.

Dated: March 8, 2007.
Richard O. Bennett,
U.S. Fish and Wildlife Service, Hadley, Massachusetts.

[FR Doc. E7-9605 Filed 5-17-07; 8:45 am]

BILLING CODE 4310-55-P